ENVIRONMENTAL PROTECTION AGENCY

[ER-FRL-9040-2]

Environmental Impact Statements; Notice of Availability

Responsible Agency: Office of Federal Activities, General Information (202) 564-7156 or https://www2.epa.gov/nepa/

Weekly receipt of Environmental Impact Statements

Filed 06/25/2018 Through 06/29/2018

Pursuant to 40 CFR 1506.9.

Notice

Section 309(a) of the Clean Air Act requires that EPA make public its comments on EISs issued by other Federal agencies. EPA's comment letters on EISs are available at: https://cdxnodengn.epa.gov/cdx-enepa-public/action/eis/search

EIS No. 20180149, Draft, FHWA, ND, Little Missouri River Crossing, Comment Period Ends: 08/20/2018, Contact: Gary Goff (701) 221-9466.

EIS No. 20180150, Draft, USFS, WY, Medicine Bow Landscape Vegetation Analysis (LaVA) Project, Comment Period Ends: 08/20/2018, Contact: Melissa Martin (307) 745-2371.

EIS No. 20180151, Draft, USACE, FL, Lake Okeechobee Watershed Restoration Project, Comment Period Ends: 08/20/2018, Contact: Gretchen Ehlinger (904) 232-1682.

EIS No. 20180152, Draft, USACE, CT, Byram River Flood Risk Management Draft Integrated Feasibility Report and EIS, Comment Period Ends: 08/20/2018, Contact: Kimberly Rightler (917) 790-8722.

Amended Notice

EIS No. 20180146, Final, USFS, WA, WITHDRAWN, LeClerc Creek Grazing Allotment Management Planning, Comment Period Ends: 08/13/2018, Contact: Gayne Sears (509) 447-7300.

Officially withdrawn per request of the U.S. Forest Service.

Dated: July 2, 2018.
Robert Tomiak,
Director, Office of Federal Activities.

[FR Doc. 2018-14495 Filed 7-5-18; 8:45 am]

BILLING CODE 6560-50-P